DEPARTMENT OF LABOR

Employment and Training Administration

[TA-W-60,131]

New United Motor Manufacturing, Inc. Fremont, California; Notice of Termination of Investigation

Pursuant to Section 221 of the Trade Act of 1974, as amended, an investigation was initiated on September 25, 2006 in response to a worker petition filed by the state agency on behalf of workers at New United Motor Manufacturing, Inc., Fremont, California.

The petitioner has requested that the petition be withdrawn. Consequently, the investigation has been terminated.

Signed at Washington, DC, this 3rd day of October, 2006.
Elliott S. Kushner,
Certifying Officer, Division of Trade Adjustment Assistance.

[FR Doc. E6-17113 Filed 10-13-06; 8:45 am]

BILLING CODE 4510-30-P